DEPARTMENT OF HEALTH AND HUMAN SERVICES

Office of the Secretary

Healthy People 2010

AGENCY: DHHS/OS/Office of Public Health and Science, Office of Disease Prevention and Health Promotion (ODPHP).

ACTION: Notice of change in program announcements of the Department of Health and Human Services to reflect the advent of Healthy People 2010, the national health goals/targets for the first decade of the 21st century.

SUMMARY: Certain program announcements by the Department of Health and Human Services have included references to the principles and objectives of Healthy People 2000, the national health promotion and disease prevention initiative in effect during the decade of the 1990's. With the conclusion of that initiative at the turn of the century, the successor initiative, Healthy People 2010, supplants Healthy People 2000 in all such references.

DATES: This change is effective as of January 25, 2000, the date of public release of Healthy People 2010, except that it does not affect program announcements concerning grants, cooperative agreements, or contracts already in force from years prior to 2000 or currently in effect in fiscal year 2000.

FOR FURTHER INFORMATION CONTACT: Office of Disease Prevention and Health Promotion, Room 738-G Hubert H. Humphrey Building, 200 Independence Avenue, S.W., Washington, DC 20201, (202) 401-6295.

SUPPLEMENTARY INFORMATION:

Background

In 1979, the Department of Health and Human Services began an initiative to use health promotion and disease prevention objectives to improve the health of people living in the United States. The first set of national health targets was published that year in Healthy People: the Surgeon General's Report on Health Promotion and Disease Prevention, which included five goals to be achieved by 1990 to reduced mortality among four different age groups and increase independence among older adults. The goals were supported by objectives that were released in 1980, also with 1990 targets.

This national health agenda has since been reformulated in each succeeding decade. Healthy People 2000, the second national prevention initiative, reflected the progress and experience of ten years, as well as an expanded science base and surveillance system. With the collaboration of an extensive network of voluntary and professional organizations, businesses, and individuals, the framework of Healthy People 2000 was designed with three broad goals—increasing the span of healthy life, reducing health disparities, and achieving access to clinical preventive services. To help meet those goals, over 300 objectives with targets, organized into 22 priority areas, aimed to achieve improvements in health status, risk reduction, and service delivery. The most recent data available show that about 60 percent of the objectives had either met their target or were progressing toward the target.

The challenges and successes of the Healthy People 2000 initiative have served as the starting points for Healthy People 2010. While its framework is based on the initiatives of the previous two decades, Healthy People 2010 differs from previous efforts. The initiative has grown to 28 focus areas and 467 objectives. The two overarching goals are: (1) Increase quality and years of healthy life; and (2) eliminate health disparities. Healthy People 2010 acknowledges that the many national advances in health have not been enjoyed equally by all demographic groups in the United States. It calls for the elimination of these disparities over the next ten years.

Citation in Announcements

References to the national health promotion initiative appear in numerous program announcements of the Department of Health and Human Services. Examples of such citations, updated to reflect the transition to Healthy People 2010, include but are not limited to the following (superseded text in brackets):

“The (Agency name) is committed to achieving the health promotion and disease prevention objectives of Healthy People 2010 [2000], a national activity to reduce morbidity and mortality and improve the quality of life. This announcement is related to the Healthy People 2010 [2000] focus [priority] area(s) (one or more of 28 areas). . . .”

“The following additional requirements are applicable to this program. (Listed sequentially from AR-1 et seq. if applicable) AR-11 Healthy People 2010 [2000]”

“Potential applicants may obtain a copy of the Healthy People 2010 [2000] objectives from/by * * * (with ordering instructions as provided in the following paragraph).”

Availability of Documents

Volumes I and II of Healthy People 2010: Conference Edition (B0074) are for sale at $22 per set by the ODPHP Communication Support Center, P.O. Box 37366, Washington, D.C. 20013-7366. Each of the 28 chapters of Healthy People 2010 is priced at $2 per copy. Telephone orders can be placed to the Center on (301) 468-5690. The Center also sells the complete Conference edition in CD-ROM format (B0071) for $5.

This publication is available as well on the Internet at www.health.gov/healthypeople. Web site viewers should proceed to “Publications”.

Dated: May 8, 2000.
David Satcher,
Assistant Secretary for Health and Surgeon General.

[FR Doc. 00-12183 Filed 5-15-00; 8:45 am]

BILLING CODE 4160-17-M